DEPARTMENT OF TRANSPORTATION

Federal Aviation Administration

14 CFR Part 39

[Docket No. FAA-2021-0127; Project Identifier MCAI-2020-00829-R]

RIN 2120-AA64

Airworthiness Directives; Leonardo S.p.a. (Type Certificate Previously Held by Agusta S.p.A.) Helicopters

AGENCY: Federal Aviation Administration (FAA), DOT.

ACTION: Notice of proposed rulemaking (NPRM).

SUMMARY: The FAA proposes to supersede airworthiness directive (AD) 2015-25-04 for Agusta S.p.A (now Leonardo S.p.a.) Model A109A and A109A II helicopters. AD 2015-25-04 requires inspecting the slider assembly pitch control (slider) for play and replacing the slider if the play exceeds certain limits. Since the FAA issued AD 2015-25-04, further investigation determined the play was caused by a manufacturing issue. This proposed AD would retain certain requirements of AD 2015-25-04, require replacing certain part-numbered sliders as a terminating action for the inspections, and prohibit installing the affected part on any helicopter. The actions of this proposed AD are intended to address an unsafe condition on these products.

DATES: The FAA must receive comments on this proposed AD by April 22, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2021-0127; or in person at Docket Operations between 9 a.m. and 5 p.m., Monday through Friday, except Federal holidays. The AD docket contains this proposed AD, the European Union Aviation Safety Agency (EASA) AD, any comments received, and other information. The street address for Docket Operations is listed above. Comments will be available in the AD docket shortly after receipt.

FOR FURTHER INFORMATION CONTACT: Matthew Fuller, AD Program Manager, Operational Safety Branch, Airworthiness Products Section, General Aviation & Rotorcraft Unit, telephone 817-222-5110; email matthew.fuller@faa.gov.

SUPPLEMENTARY INFORMATION:

Comments Invited

The FAA invites you to send any written relevant data, views, or arguments about this proposal. Send your comments to an address listed under ADDRESSES. Include “Docket No. FAA-2021-0127; Project Identifier MCAI-2020-00829-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matthew Fuller, AD Program Manager, Operational Safety Branch, Airworthiness Products Section, General Aviation & Rotorcraft Unit, telephone 817-222-5110; email matthew.fuller@faa.gov. Any commentary that the FAA receives which is not specifically designated as CBI will be placed in the public docket for this rulemaking.

Discussion

The FAA issued AD 2015-25-04, Amendment 39-18342 (80 FR 76381, December 9, 2015) (AD 2015-25-04) for Agusta S.p.A (now Leonardo S.p.a.) Model A109A and A109A II helicopters. AD 2015-25-04 requires repetitively inspecting the slider for play and replacing the slider if the play exceeds certain limits.

AD 2015-25-04 was prompted by EASA AD No. 2015-0097, dated June 1, 2015 (EASA AD 2015-0097), issued by EASA, which is the Technical Agent for the Member States of the European Union. EASA advises that during a scheduled 100-flight-hour inspection on a Model A109A II helicopter, unusual play was detected on a certain part-numbered slider. EASA advises further investigation revealed excessive wear of the slider broaching at the point of contact with the tail rotor shaft. EASA stated the cause of the excessive play has not been determined.

Actions Since AD 2015-25-04 Was Issued

Since the FAA issued AD 2015-25-04, EASA issued EASA AD No. 2020-0142 (EASA AD 2020-0142), dated June 25, 2020, to correct an unsafe condition for Leonardo S.p.a. Model A109A and A109A II helicopters with a certain part-numbered slider. EASA advises that further investigation results identified the reason for the excessive play was a manufacturing issue. Accordingly, EASA AD 2020-0142 retains the repetitive inspections for a certain part-numbered slider, requires replacing a certain part-numbered slider with a modified slider, and provides a terminating action for the repetitive inspections.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other products of the same type designs.

Related Service Information

The FAA reviewed Leonardo Helicopters Alert Service Bulletin No. 109-149, Revision A, dated May 18, 2020, which describes procedures for repetitively inspecting the slider for play. This service information also references procedures for replacing the affected slider with a modified slider.

Proposed AD Requirements

This proposed AD would retain the initial and repetitive 25 hours time-in-service (TIS) inspections required by AD 2015-25-04 and depending on the inspection results, would continue to require replacing the slider with an airworthy slider. Additionally, this NPRM would require, within 800 hours TIS, removing slider part number (P/N) 109-0130-11-7 from service and replacing it with a modified slider P/N 109-0130-11-7 marked with an “R” after the serial number, which would provide a terminating action for the repetitive inspections. Finally, this NPRM would prohibit installing certain sliders on any helicopter.

Differences Between This Proposed AD and the EASA AD

The EASA AD requires replacing the affected part-numbered slider within 60 months, while this proposed AD would require replacing the affected slider within 800 hours TIS.

Costs of Compliance

The FAA estimates that this proposed AD would affect 147 helicopters of U.S. Registry. The FAA estimates that operators may incur the following costs in order to comply with this proposed AD. Labor costs are estimated at $85 per work-hour. Inspecting the slider for play would take about 1 work-hour for an estimated cost of $85 per helicopter and $12,495 for the U.S. fleet per inspection cycle.

Replacing a slider would take about 10 work-hours and parts would cost about $4,068 for an estimated cost of $4,918 per helicopter and $722,946 for the U.S. fleet.

According to Leonardo Helicopters service information some of the costs of this proposed AD may be covered under warranty, thereby reducing the cost impact on affected persons. The FAA does not control warranty coverage by Leonardo. Accordingly, the FAA has included all costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2015-25-04, Amendment 39-18342 (80 FR 76381, December 9, 2015); and

b. Adding the following new AD:

Leonardo S.p.a (Type Certificate Previously Held by Agusta S.p.A.): Docket No. FAA-2021-0127; Project Identifier MCAI-2020-00829-R.

(a) Applicability

This airworthiness directive (AD) applies to Leonardo S.p.a. (Type Certificate previously held by Agusta S.p.A.) Model A109A and A109A II helicopters, certificated in any category, with a slider assembly pitch control (slider) part number (P/N) 109-0130-11-7 installed, except those sliders marked with an “R” after the serial number.

(b) Unsafe Condition

This AD defines the unsafe condition as play on a slider. This condition could result in loss of tail rotor pitch control and consequently loss of helicopter control.

(c) Affected ADs

This AD replaces AD 2015-25-04, Amendment 39-18342 (80 FR 76381, December 9, 2015).

(d) Comments Due Date

The FAA must receive comments by April 22, 2021.

(e) Compliance

You are responsible for performing each action required by this AD within the specified compliance time unless it has already been accomplished prior to that time.

(f) Required Actions

(1) Within 25 hours time-in-service (TIS) after the effective date of this AD, and thereafter at intervals not to exceed 25 hours TIS, inspect the slider for play. If there is play greater than 2.3 millimeters (0.09 inch), before further flight, replace the slider with a slider P/N 109-0130-11-7 with suffix “R” marked after the serial number.

(2) Within 800 hours TIS after the effective date of this AD, if not previously required per paragraph (f)(1) of this AD, replace slider P/N 109-0130-11-7 with slider P/N 109-0130-11-7 with suffix “R” marked after the serial number.

(3) Installing slider P/N 109-0130-11-7 with suffix “R” marked after the serial number is a terminating action for the repetitive inspections required by paragraph (f)(1) of this AD.

(4) As of the effective date of this AD, do not install slider P/N 109-0130-11-7 on any helicopter unless the slider is marked with suffix “R” after the serial number.

(g) Alternative Methods of Compliance (AMOCs)

(1) The Manager, Strategic Policy Rotorcraft Section, FAA, may approve AMOCs for this AD. Send your proposal to: Matthew Fuller, AD Program Manager, Operational Safety Branch, Airworthiness Products Section, General Aviation & Rotorcraft Unit, telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

(1) Leonardo Helicopters Alert Service Bulletin No. 109-149, Revision A, dated May 18, 2020 which is not incorporated by reference, contains additional information about the subject of this AD. For service information identified in this AD, contact Leonardo S.p.a. Helicopters, Emanuele Bufano, Head of Airworthiness, Viale G.Agusta 520, 21017 C.Costa di Samarate (Va) Italy; telephone +39-0331-225074; fax +39-0331-229046; or at https://www.leonardocompany.com/en/home.

(2) The subject of this AD is addressed in European Union Aviation Safety Agency (EASA) AD No. 2020-0142, dated June 25, 2020. You may view the EASA AD on the internet at https://www.regulations.gov in the AD Docket.

(i) Subject

Joint Aircraft Service Component (JASC) Code: 6720, Tail Rotor Control System.

Issued on February 24, 2021.
Gaetano A. Sciortino,
Deputy Director for Strategic Initiatives, Compliance & Airworthiness Division, Aircraft Certification Service.

[FR Doc. 2021-04232 Filed 3-5-21; 8:45 am]

BILLING CODE 4910-13-P